NUCLEAR REGULATORY COMMISSION

Sunshine Meeting Notice

AGENCY HOLDING THE MEETING: Nuclear Regulatory Commission.

DATE: Weeks of July 24, 31, August 7, 14, 21, and 28, 2000.

PLACE: Commissioners' Conference Room, 11555 Rockville Pike, Rockville, Maryland.

STATUS: Public and Closed.

MATTERS TO BE CONSIDERED:

Week of July 24

Tuesday, July 25

3:25 p.m.

Affirmation Session (Public Meeting)

a. Final Rule to Amend 10 CFR Part 70, Domestic Licensing of Special Nuclear Material

b. Final Rule: 10 CFR Part 72—Clarification and Addition of Flexibility

Week of July 31—Tentative

There are no meetings scheduled for the Week of July 31.

Week of August 7—Tentative

There are no meetings scheduled for the Week of August 7.

Week of August 14—Tentative

Tuesday, August 15

9:25 a.m.

Affirmation Session (Public Meeting) (If necessary)

9:30 a.m.

Briefing on NRC International Activities (Public Meeting) (Contact: Ron Hauber, 301-415-2344)

This meeting will be webcast live at the Web address— www.nrc.gov/live.html

Week of August 21—Tentative

Monday, August 21

1:55 p.m.

Affirmation Session (Public Meeting) If necessary)

Week of August 28—Tentative

There are no meetings scheduled for the Week of August 28.

* THE SCHEDULE FOR COMMISSION MEETINGS IS SUBJECT TO CHANGE ON SHORT NOTICE. TO VERIFY THE STATUS OF MEETINGS CALL (RECORDING)—(301) 415-1292. CONTACT PERSON FOR MORE INFORMATION: Bill Hill (301) 415-1661.

* * * * *

ADDITIONAL INFORMATION: By a vote of 5-0 on March 31, the Commission determined pursuant to U.S.C. 552b(e) and § 9.107(a) of the Commission's rules that “Discussion of Intragovernmental Issues” (Closed Ex. 9) be held on March 31, and on less than one week's notice to the public.

* * * * *

The NRC Commission Meeting Schedule can be found on the Internet at: http://www.nrc.gov/SECY/smj/schedule.htm

* * * * *

This notice is distributed by mail to several hundred subscribers; if you no longer wish to receive it, or would like to be added to it, please contact the Office of the Secretary, Attn: Operations Branch, Washington, DC 20555 (301-415-1661). In addition, distribution of this meeting notice over the Internet system is available. If you are interested in receiving this Commission meeting schedule electronically, please send an electronic message to wmh@nrc.gov or dkw@nrc.gov.

Dated: July 21, 2000.
William M. Hill, Jr.,
SECY Tracking Officer, Office of the Secretary.

[FR Doc. 00-19002 Filed 7-24-00; 12:44 pm]

BILLING CODE 7590-01-M